DEPARTMENT OF THE INTERIOR

Bureau of Land Management

[NMNM 106003224; NMNM 105953819]

Notice of Application for Withdrawal Extension and Opportunity for Public Meeting, Gallinas Peak and West Turkey Cone Electronic Sites; New Mexico

AGENCY: Bureau of Land Management, Interior.

ACTION: Notice of application.

SUMMARY: On behalf of the United States Department of Agriculture, the United States Forest Service (USFS) filed an application with the Bureau of Land Management (BLM) requesting that the Secretary of the Interior extend Public Land Order (PLO) No. 7625 for an additional 20-year term. PLO No. 7625 withdrew 140 acres of National Forest System land in Lincoln County, New Mexico, from location and entry under the United States mining laws, subject to valid existing rights, to protect the Gallinas Peak and West Turkey Cone Electronic Sites for a period of 20 years. The withdrawal created by PLO No. 7625 will expire on February 16, 2025, unless extended. This notice announces to the public a 90-day opportunity to comment on the withdrawal extension application and to request a public meeting.

DATES: Comments and requests for a public meeting regarding the withdrawal extension application must be received by December 12, 2024.

ADDRESSES: All written comments and meeting requests should be sent to the Cibola National Regional Forester's Office, Attn: Michiko Martin, 333 Broadway SE, Albuquerque, NM 87102.

FOR FURTHER INFORMATION CONTACT: Jillian Aragon, BLM Project Manager by phone at 505-635-9701 or email at jgaragon@blm.gov or Michiko Martin by phone at 505-346-3842 or by email at michiko.martin@usda.gov.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the requested withdrawal extension is to protect the 140-acre electronic sites, identified as the Gallinas Peak Electronic Site and the West Turkey Cone Electronic Site, which are located within the Lincoln National Forest. The withdrawal was originally authorized under PLO No. 7625 effective February 17, 2005 (70 FR 8109), for an additional 20-year term and is incorporated herein by reference.

The use of a right-of-way, interagency agreement, or cooperative agreement would not provide adequate protection for this site.

There are no suitable alternative sites available.

No water rights will be needed to fulfill the purpose of the requested withdrawal.

Notice is hereby given that the opportunity for a public meeting is afforded in connection with the withdrawal application. All interested persons who wish to submit comments, suggestions, or objections in connection with the withdrawal extension application, or to request a public meeting, may submit a written request to the Regional Forester by December 12, 2024, at the address in the ADDRESSES section above. If the Authorized Officer determines that there will be a public meeting, a notice of the location, time, and place will be published in the Federal Register and in a local newspaper at least 30 days before the scheduled date of the meeting. Before including your address, phone number, email address, or other personal identifying information in your comment, be advised that your entire comment—including your personal identifying information—may be made publicly available at any time. While you may ask the BLM in your comment to withhold from your personal identifying information from the public review, we cannot guarantee that we will be able to do so.

This application will be processed in accordance with the regulations in 43 CFR part 2300.

(Authority: 43 U.S.C. 1714)

Michael Gibson,
Acting State Director.

[FR Doc. 2024-20787 Filed 9-12-24; 8:45 am]

BILLING CODE 4331-15-P